NEIGHBORHOOD REINVESTMENT CORPORATION

Sunshine Act Meetings

TIME AND DATE: 2:00 p.m., Thursday, August 19, 2021.

PLACE: Via Conference Call.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b (c)(2) and (4) permit closure of the following portion(s) of this meeting:

• Executive Session

Agenda

I. Call to Order

II. Executive Session Other Matter

III. Executive Session Sunshine Act

IV. Executive Session: Report from CEO

V. Executive Session: Report from CFO

VI. Executive Session: NeighborWorks Compass™ Update

VII. Action Item Approval of Minutes

VIII. Action Item FY2022 Preliminary Spend Plan

IX. Action Item NeighborWorks Compass ™

a. Resolution To Authorize Expansion of Tech Development Contract

b. Resolution To Authorize Execution of Customer Services Contract

X. Discussion Item Audit Committee Report

XI. Discussion Item FY2023 Budget Submission

XII. Discussion Item Replacement of Procurement Platform (NEST)

XIII. Discussion Item Strategic Planning Update

XIV. Discussion Item Operations Guide Review

XV. Discussion Item Kansas City Office Lease Strategy

XVI. Discussion Item DC Office Lease Strategy

XVII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2021-17347 Filed 8-10-21; 4:15 pm]

BILLING CODE 7570-02-P